NATIONAL ARCHIVES AND RECORDS ADMINISTRATION

[NARA-2015-045]

Advisory Committee on the Records of Congress

AGENCY: National Archives and Records Administration (NARA).

ACTION: Notice of advisory committee meeting.

SUMMARY: In accordance with the Federal Advisory Committee Act(5 U.S.C. app 2), the National Archives and Records Administration announces the following meeting.

DATES: The meeting will be held on June 22, 2015, from 10:00 a.m. to 11:30 a.m. EDT.

ADDRESSES: Capitol Visitor Center (located beneath the East Front plaza of the U.S. Capitol at First Street and East Capitol Street); Room 202-03; Washington, DC 20510.

FOR FURTHER INFORMATION CONTACT: Sharon Fitzpatrick,of NARA's Center for Legislative Archives by email at sharon.fitzpatrick@nara.gov or by telephone at (202) 357-5350.

SUPPLEMENTARY INFORMATION:

Agenda

(1) Chair's opening remarks—Secretary of the U.S. Senate

(2) Recognition of co-chair—Clerk of the U.S. House of Representatives

(3) Recognition of the Archivist of the United States

(4) Approval of the minutes of the last meeting

(5) Senate Archivist's report—Karen Paul

(6) House Archivist's report—Robin Reeder

(7) Center update—Richard Hunt

(8) Other current issues and new business

The meeting is open to the public.

Dated: May 29, 2015.
Patrice Little Murray,
Committee Management Officer.

[FR Doc. 2015-13785 Filed 6-4-15; 8:45 am]

BILLING CODE 7515-01-P